SMALL BUSINESS ADMINISTRATION

Military Reservist Economic Injury Disaster Loans Interest Rate for First Quarter FY 2017

In accordance with the Code of Federal Regulations 13—Business Credit and Assistance § 123.512, the following interest rate is effective for Military Reservist Economic Injury Disaster Loans approved on or after October 26, 2016.

Military Reservist Loan Program—3.125%

Dated: October 27, 2016.
Lisa Lopez-Suarez,
Acting Associate Administrator for Disaster Assistance.

[FR Doc. 2016-26642 Filed 11-3-16; 8:45 am]

BILLING CODE 8025-01-P